DEPARTMENT OF HEALTH AND HUMAN SERVICES

Centers for Medicare & Medicaid Services

42 CFR Part 419

[CMS-1793-N]

RIN 0938-AV18

Medicare Program: Hospital Outpatient Prospective Payment System: Remedy for the 340B-Acquired Drug Payment Policy for Calendar Years 2018-2022; Extension of Comment Period

AGENCY: Centers for Medicare & Medicaid Services (CMS), Department of Health and Human Services (HHS).

ACTION: Proposed rule; extension of comment period.

SUMMARY: This document extends the comment period for the proposed rule titled “Medicare Program; Hospital Outpatient Prospective Payment System: Remedy for the 340B-Acquired Drug Payment Policy for Calendar Years 2018-2022” that was published in the July 11, 2023 Federal Register. The comment period for the proposed rule, which would otherwise end on September 5, 2023, is extended until September 11, 2023.

DATES: The comment period for the proposed rule published at 88 FR 44078 on July 11, 2023, is extended to 5 p.m., Eastern Daylight Time, on September 11, 2023.

ADDRESSES: You may submit comments as outlined in the July 11, 2023, proposed rule (88 FR 44078). Please choose only one method listed.

FOR FURTHER INFORMATION CONTACT: Cory Duke, (410) 786-0631 or Cory.Duke@cms.hhs.gov.

SUPPLEMENTARY INFORMATION:

Inspection of Public Comments: All comments received before the close of the comment period are available for viewing by the public, including any personally identifiable or confidential business information that is included in a comment. We post all comments received before the close of the comment period on the following website as soon as possible after they have been received: https://www.regulations.gov. Follow the search instructions on that website to view public comments. CMS will not post on Regulations.gov public comments that make threats to individuals or institutions or suggest that the individual will take actions to harm the individual. CMS continues to encourage individuals not to submit duplicative comments. We will post acceptable comments from multiple unique commenters even if the content is identical or nearly identical to other comments.

In the July 11, 2023 Federal Register (88 FR 44078), we published a proposed rule titled “Medicare Program; Hospital Outpatient Prospective Payment System: Remedy for the 340B-Acquired Drug Payment Policy for Calendar Years 2018-2022.” The proposed rule announced a comment period ending on September 11, 2023.

Subsequently, a correction was published in the July 14, 2023 Federal Register (88 FR 45126), which changed the comment period end date from “September 11, 2023” to “September 5, 2023”. This change was made because September 5, 2023, was the correct comment period end date based on the comment period ending 60 days after the initial display date (July 7, 2023) of the proposed rule.

However, we subsequently became aware of public confusion over the end date of the comment period. In order to eliminate this confusion and maximize the opportunity for the public to provide meaningful input to CMS, we believe it is important to allow additional time for the public to prepare comments on the July 2023 proposed rule. Therefore, we are extending the comment period for the proposed rule by 6 days. This document announces the extension of the public comment period for the proposed rule, which will now end at 5 p.m., Eastern Daylight Time, on September 11, 2023.

The Administrator of the Centers for Medicare & Medicaid Services (CMS), Chiquita Brooks-LaSure, having reviewed and approved this document, authorizes Vanessa Garcia, who is the Federal Register Liaison, to electronically sign this document for purposes of publication in the Federal Register.

Dated: August 30, 2023.
Vanessa Garcia,
Federal Register Liaison, Centers for Medicare and Medicaid Services.

[FR Doc. 2023-19070 Filed 8-31-23; 4:15 pm]

BILLING CODE 4120-01-P